DEPARTMENT OF LABOR

Employment and Training Administration

[TA-W-57,270]

TRW Automotive, Occupant Safety Systems Division, El Paso Warehouse, El Paso, TX; Notice of Termination of Investigation

Pursuant to section 221 of the Trade Act of 1974, as amended, an investigation was initiated on June 1, 2005, in response to a petition filed by a company official on behalf of workers at TRW Automotive, Occupant Safety Systems Division, El Paso Warehouse, El Paso, Texas.

The company has requested that the petition be withdrawn. Consequently, the investigation has been terminated.

Signed in Washington, DC, this 11th day of July 2005.
Richard Church,
Certifying Officer, Division of Trade Adjustment Assistance.

[FR Doc. E5-4297 Filed 8-8-05; 8:45 am]

BILLING CODE 4510-30-P